DEPARTMENT OF VETERANS AFFAIRS

Notice of the Department of Veterans Affairs: Recommendations for Modernization or Realignment of Veterans Health Administration (VHA) Facilities

AGENCY: Department of Veterans Affairs.

ACTION: Notice.

SUMMARY: The Secretary of the Department of Veterans Affairs (VA) is required to develop recommendations regarding the modernization or realignment of Veterans Health Administration (VHA) facilities. This notice serves as documentation for the public record that the Secretary's recommendations to the Asset and Infrastructure Review (AIR) Commission have been submitted and are available to the public at https://www.va.gov/aircommissionreport.

FOR FURTHER INFORMATION CONTACT: Valerie Mattison Brown, Chief Strategy Officer, Veterans Health Administration, U.S. Department of Veterans Affairs, 810 Vermont Avenue NW, Washington, DC 20420, (202) 461-7100.

SUPPLEMENTARY INFORMATION: Subtitle A of Title II of the Maintaining Internal Systems and Strengthening Integrated Outside Networks (MISSION) Act of 2018 (Public Law 115-182), requires the Secretary to submit to the Committees on Veterans' Affairs of the Senate and the House of Representatives and to the AIR Commission a report detailing recommendations for the modernization or realignment of VHA facilities developed utilizing the final criteria published in the Federal Register on May 28, 2021.

Signing Authority

Denis McDonough, Secretary of Veterans Affairs, approved this document on March 8, 2022, and authorized the undersigned to sign and submit the document to the Office of the Federal Register for publication electronically as an official document of the Department of Veterans Affairs.

Michael P. Shores,
Director, Office of Regulation Policy & Management, Office of General Counsel, Department of Veterans Affairs.

[FR Doc. 2022-05256 Filed 3-11-22; 8:45 am]

BILLING CODE 8320-01-P